DEPARTMENT OF DEFENSE

Department of the Army; Corps of Engineers

Intent To Prepare a Draft Environmental Impact Statement Titled: Mississippi River and Tributaries-Morganza, Louisiana to the Gulf of Mexico Hurricane Protection—Houma Navigation Canal Deepening General Re-Evaluation

AGENCY: Department of the Army, U.S. Army Corps of Engineers, DoD.

ACTION: Notice of intent.

SUMMARY: The U.S. Army Corps of Engineers, New Orleans District, is initiating this study under the Energy and Water Development Appropriation Act of 1995 (Pub. L. 103-316) authorized the Morganza, Louisiana to the Gulf of Mexico feasibility study to determine the feasibility of deepening the navigation channel of the Houma Navigation Canal, LA from 15 feet to a maximum of 25 feet.

FOR FURTHER INFORMATION CONTACT: Questions concerning the Environmental Impact Statement (EIS) should be addressed to Mr. Nathan Dayan at U.S. Army Corps of Engineers, PM-RS, PO Box 60267, New Orleans, LA 70160-0267, by e-mail at Nathan.S.Dayan@usace.army.mil, phone (504) 862-2530, or fax number (504) 862-2572.

SUPPLEMENTARY INFORMATION: Deepening the channel in the Houma Navigation Canal will allow for growth in marine activity that the present depth does not allow. The trend in the offshore oil and gas industry is for exploration and production in very deep water. This has two important implications for the Houma Navigation Canal. Deepwater activity requires larger service vessels, as well as, a greater financial commitment for any given project. Therefore, firms that can build, service and maintain larger vessels at the lowest cost will win contracts that would otherwise go to overseas competitors. Deepening the channel will allow the deeper draft service boats to use the Houma Navigation Canal, not only as a base of operations, but also take advantage of the nearby construction and repair facilities located along the canal. Also, the strategic location of the canal allows for less costly trips to the deepwater tracts of the Gulf of Mexico.

1. Proposed Action. The proposed action would include the deepening of the existing Houma Navigation Canal, Louisiana project to depths up to 25 feet. The material dredged for the construction and maintenance of the channels would be used for wetlands restoration and construction, to the extent practicable. Economic and environmental analysis would be used to determine the most practical plan, which would provide for the greatest overall public benefit.

2. Alternatives. Alternatives recommended for consideration presently include the construction of a deeper channel in the Houma Navigation Canal. Various project depths for navigation channels would also be investigated.

3. Scoping. Scoping is the process for determining the scope of alternatives and significant issues to be addressed in the EIS. For this analysis, a letter will be sent to all parties believed to have an interest in the analysis, requesting their input on alternatives and issues to be evaluated. The letter will also notify interested parties of public scoping meetings that will be held in the local area. Notices will also be sent to local news media. All interested parties are invited to comment at this time, and anyone interested in this study should request to be included in the study mailing list.

A public scoping meeting will be held in the middle part of 2003. The meeting will be held in the vicinity of Houma, LA. Additional meetings could be held, depending upon interest and if it is determined that further public coordination is warranted.

4. Significant Issues. The tentative list of resources and issues to be evaluated in the EIS includes tidal wetlands (marshes and swamps), aquatic resources, commercial and recreational fisheries, wildlife resources, essential fish habitat, water quality, air quality, threatened and endangered species, recreation resources, and cultural resources. Socioeconomic items to be evaluated in the EIS include navigation, flood protection, business and industrial activity, employment, land use, property values, public/community facilities and services, tax revenues, population, community and regional growth, transportation, housing, community cohesion, and noise.

5. Environmental Consultation and Review. The U.S. Fish and Wildlife Service (USFWS) will be assisting in the documentation of existing conditions and assessment of effects of project alternatives through Fish and Wildlife Coordination Act consultation procedures. The USFWS will provide a Fish and Wildlife Coordination Act report. Consultation will be accomplished with the USFWS and the National Marine Fisheries Service (NMFS) concerning threatened and endangered species and their critical habitat. The NMFS will be consulted on the effects of this proposed action on Essential Fish Habitat. The draft EIS (DEIS) or a notice of its availability will be distributed to all interested agencies, organizations, and individuals.

6. Estimated Date of Availability. Funding levels will dictate the date when the DEIS is available. The earliest that the DEIS is expected to be available in the fall of 2004.

Dated: May 9, 2003.
Peter J. Rowan,
Colonel, U.S. Army, District Engineer.

[FR Doc. 03-13010 Filed 5-22-03; 8:45 am]

BILLING CODE 3710-84-P